DEPARTMENT OF DEFENSE

Office of the Secretary

[Docket ID: DoD-2015-OS-0113]

Privacy Act of 1974; System of Records

AGENCY: Office of the Secretary of Defense, DoD.

ACTION: Notice to add a new System of Records.

SUMMARY: The Office of the Secretary of Defense proposes to add a new system of records, DUSDA 15, entitled “AT&L External Account Creation System (EACS)” to validate eligibility, and maintain an official registry that identifies individuals who apply for, and are granted access privileges to AT&L products, services and electronic information systems.

DATES: Comments will be accepted on or before November 30, 2015. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at http://dpcld.defense.gov/. The proposed system report, as required by 5 U.S.C. 552a(r) of the Privacy Act of 1974, as amended, was submitted on October 23, 2015, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 23, 2015.
Aaron Siegel,
Alternate OSD Federal Register Liaison Officer, Department of Defense.

DUSDA 15

System Name:

AT&L External Account Creation System (EACS)

System Location:

Pentagon, 1400 Defense Pentagon, Arlington, VA 20301-1400.

Categories of Individuals Covered by the System:

DoD and other U.S. Federal Government agency military and civilian personnel, and contractors; researchers of colleges or universities funded by DoD or other U.S. Federal Government agencies; students and employees of specifically qualifying educational institutions, groups, and programs.

Categories of Records in the System:

Full name, title, DoD Identification number, employment type (civilian, contractor, military), work contact information (address, phone number, and email address).

Authority for Maintenance of the System:

10 U.S.C. 133, Under Secretary of Defense for Acquisition, Technology, and Logistics (AT&L); DoD Instruction (DoDI) 5200.01, DoD Information Security Program and Protection of Sensitive Compartmented Information; and DoDI 8520.02, Public Key Infrastructure (PKI) and Public Key (PK) Enabling.

Purpose(s):

To validate eligibility, and maintain an official registry that identifies individuals who apply for, and are granted access privileges to AT&L products, services and electronic information systems.

Routine Uses of Records Maintained in the System, Including Categories of Users and the Purposes of Such Uses:

In addition to those disclosures generally permitted under 5 U.S.C. 552a(b) of the Privacy Act of 1974, as amended, the records contained herein may specifically be disclosed outside the DoD as a routine use pursuant to 552a(b)(3) as follows:

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD Blanket Routine Uses can be found online at: http://dpcld.defense.gov/Privacy/SORNsindex/BlanketRoutineUses.aspx.

Policies and practices for storing, retrieving, accessing, retaining, and disposing of records in the system:

Storage:

Electronic storage media.

Retrievability:

Name.

Safeguards:

Records are maintained in secure, limited access, or monitored areas. Access is restricted to database and system administrators with trusted credentials and security clearances. System access is password protected and Common Access Card (CAC) enabled. Physical entry by unauthorized persons is restricted through the use of locks, guards, and passwords. Archived data is stored on discs or magnetic tapes which are kept in a locked or controlled access area. Access to personal information is limited to those individuals who have a need-to-know to perform their official assigned duties.

Retention and Disposal:

Destroy when superseded or obsolete of the authorization document or on transfer, separation, or relief of the individual concerned.

System Manager(s) and Address:

Director, eBusiness Center, 4800 Mark Center Drive, Alexandria, VA 22311-3604.

Notification Procedure:

Individuals seeking to determine whether this system of records contains information about themselves may address their inquiries to Director, eBusiness Center, 4800 Mark Center Drive, Alexandria, VA 22311-3604.

Signed, written requests should contain the full name of the individual, current work address, telephone number and email address.

Record Access Procedures:

Individuals seeking to access records about themselves contained in this system of records should address written inquiries to the Office of the Secretary of Defense/Joint Staff, Freedom of Information Act Requester Services, 1155 Defense Pentagon, Washington, DC 20301-1155.

Signed, written requests should include the full name of the individual, current work address, telephone number, email address, and the number of this system of records notice.

Contesting Record Procedures:

The Office of the Secretary of Defense (OSD) rules for accessing records, for contesting contents and appealing initial agency determinations are published in OSD Administrative Instruction 81; 32 CFR part 311; or may be obtained from the system manager.

Record Source Categories:

Individual.

Exemptions Claimed for the System:

None.

[FR Doc. 2015-27529 Filed 10-28-15; 8:45 am]

BILLING CODE 5001-06-P